FEDERAL COMMUNICATIONS COMMISSION

47 CFR Part 73

[DA 04-3821, MB Docket No. 04-31, RM-10852]

Television Broadcast Service; Gainesville, FL

AGENCY: Federal Communications Commission.

ACTION: Final rule.

SUMMARY: The Commission, at the request of Gainesville Channel 61 Associates, LLC, substitutes channel 29 for channel 61+ at Gainesville. See 69 FR 9791, March 2, 2004. TV channel 29 can be allotted to Gainesville with a zero offset consistent with the principle community coverage requirements of Section 73.610 at coordinates 29-37-47 N. and 82-34-24 W. With this action, this proceeding is terminated.

DATES: Effective January 28, 2005.

FOR FURTHER INFORMATION CONTACT: Pam Blumenthal, Media Bureau, (202) 418-1600.

SUPPLEMENTARY INFORMATION: This is a synopsis of the Commission's Report and Order, MB Docket No. 04-31, adopted December 2, 2004, and released December 14, 2004. The full text of this document is available for public inspection and copying during regular business hours in the FCC Reference Information Center, Portals II, 445 12th Street, SW., Room CY-A257, Washington, DC, 20554. This document may also be purchased from the Commission's duplicating contractor, Best Copy and Printing, Inc., 445 12th Street, SW, Room CY-B402, Washington, DC, 20554, telephone 301-816-2820, facsimile 301-816-0169, or via-e-mail joshir@erols.com.

This document does not contain [new or modified] information collection requirements subject to the Paperwork Reduction Act of 1995 (PRA), Public Law 104-13. In addition, therefore, it does not contain any new ore modified “information collection burden for small business concerns with fewer that 25 employees,” pursuant to the Small Business Paperwork Relief Act of 2002, Pub. L. 107-198, see 44 U.S.C. 3506(c)(4).

The Commission will send a copy of this Report & Order in a report to be sent to Congress and the General Accountability Office pursuant to the Congressional Review Act, see 5 U.S.C. 801(a)(1)(A).

List of Subjects in 47 CFR Part 73

Television broadcasting.

Part 73 of Title 47 of the Code of Federal Regulations is amended as follows:

PART 73—[AMENDED]

1. The authority citation for Part 73 continues to read as follows:

Authority: 47 U.S.C. 154, 303, 334 and 336.

§ 73.606 [Amended]

2. Section 73.606(b), the Table of Television Allotments under Florida, is amended by removing TV channel 61+ and adding TV channel 29 at Gainesville.

Federal Communications Commission.
Barbara A. Kreisman,
Chief, Video Division, Media Bureau.

[FR Doc. 04-28425 Filed 12-28-04; 8:45 am]

BILLING CODE 6712-01-P